DEPARTMENT OF ENERGY

Federal Energy Regulatory Commission

Combined Notice of Filings #1

Take notice that the Commission received the following electric rate filings:

Docket Numbers: ER15-762-011.

Applicants: Sierra Solar Greenworks LLC.

Description: Compliance filing: Sierra Solar Greenworks Notice of Change in Status MBR Tariff to be effective 1/17/2018.

Filed Date: 1/17/18.

Accession Number: 20180117-5030.

Comments Due: 5 p.m. ET 2/7/18.

Docket Numbers: ER16-468-005.

Applicants: FTS Master Tenant 1, LLC.

Description: Compliance filing: FTS Master Tenant 1 Notice of Change in Status MBR Tariff to be effective 1/17/2018.

Filed Date: 1/17/18.

Accession Number: 20180117-5028.

Comments Due: 5 p.m. ET 2/7/18.

Docket Numbers: ER17-1864-003.

Applicants: Bayshore Solar A, LLC.

Description: Compliance filing: Bayshore Solar A Notice of Change in Status MBR Tariff to be effective 1/17/2018.

Filed Date: 1/17/18.

Accession Number: 20180117-5025.

Comments Due: 5 p.m. ET 2/7/18.

Docket Numbers: ER17-1871-003.

Applicants: Bayshore Solar B, LLC.

Description: Compliance filing: Bayshore Solar B Notice of Change in Status MBR Tariff to be effective 1/17/2018.

Filed Date: 1/17/18.

Accession Number: 20180117-5026.

Comments Due: 5 p.m. ET 2/7/18.

Docket Numbers: ER17-1909-003.

Applicants: Bayshore Solar C, LLC.

Description: Compliance filing: Bayshore Solar C Notice of Change in Status MBR Tariff to be effective 1/17/2018.

Filed Date: 1/17/18.

Accession Number: 20180117-5027.

Comments Due: 5 p.m. ET 2/7/18.

Docket Numbers: ER17-2364-001; ER10-2719-027; ER10-2934-011; ER10-2959-012; ER10-2961-012; ER10-3099-019; ER14-2498-007; ER14-2500-007; ER16-2462-006.

Applicants: St. Joseph Energy Center, LLC, East Coast Power Linden Holding, L.L.C., Oregon Clean Energy, LLC, Newark Energy Center, LLC, EIF Newark, LLC, Chambers Cogeneration, Limited Partnership, Edgecombe Genco, LLC, Logan Generating Company, L.P., RC Cape May Holdings, LLC.

Description: Notice of Non-Material Change in Status of St. Joseph Energy Center, et al.

Filed Date: 1/17/18.

Accession Number: 20180117-5122.

Comments Due: 5 p.m. ET 2/7/18.

Docket Numbers: ER18-156-001.

Applicants: Southern California Edison Company.

Description: Tariff Amendment: SCE's Response to Deficiency re Amended LGIA Altagas Sonoran Energy SA No. 158 to be effective 10/26/2017.

Filed Date: 1/17/18.

Accession Number: 20180117-5099.

Comments Due: 5 p.m. ET 2/7/18.

Docket Numbers: ER18-662-000.

Applicants: Robinson Power Company, LLC.

Description: Request for Limited Tariff Waiver and for Expedited Action of Robinson Power Company, LLC.

Filed Date: 1/16/18.

Accession Number: 20180116-5283.

Comments Due: 5 p.m. ET 1/24/18.

Docket Numbers: ER18-665-000.

Applicants: South Central MCN LLC.

Description: Compliance filing: Submission of Assignment, Assumption and Amendment of Agreement to be effective 1/17/2018.

Filed Date: 1/17/18.

Accession Number: 20180117-5106.

Comments Due: 5 p.m. ET 2/7/18.

Docket Numbers: ER18-667-000.

Applicants: Midcontinent Independent System Operator, Inc., Ameren Illinois Company.

Description: § 205(d) Rate Filing: 2018-01-18_SA 3028 Ameren IL-Prairie Power Project#8 Piper City to be effective 1/3/2018.

Filed Date: 1/18/18.

Accession Number: 20180118-5023.

Comments Due: 5 p.m. ET 2/8/18.

Docket Numbers: ER18-668-000.

Applicants: Midcontinent Independent System Operator, Inc. Ameren Illinois Company.

Description: § 205(d) Rate Filing: 2018-01-18_SA 3028 Ameren IL-Prairie Power Project #9 Menard Greenview to be effective 1/3/2018.

Filed Date: 1/18/18.

Accession Number: 20180118-5024.

Comments Due: 5 p.m. ET 2/8/18.

Docket Numbers: ER18-669-000.

Applicants: Mid-Atlantic Interstate Transmission, LLC, Trans-Allegheny Interstate Line Company, PJM Interconnection, L.L.C.

Description: § 205(d) Rate Filing: MAIT and TrAILCo submit Four ECSAs SA Nos. 4202, 4203, 4204 and 4205 to be effective 3/20/2018.

Filed Date: 1/18/18.

Accession Number: 20180118-5038.

Comments Due: 5 p.m. ET 2/8/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 18, 2018.
Nathaniel J. Davis, Sr.,
Deputy Secretary.

[FR Doc. 2018-01245 Filed 1-23-18; 8:45 am]

BILLING CODE 6717-01-P